COMMITTEE FOR THE IMPLEMENTATION OF TEXTILE AGREEMENTS

Denial of Short Supply Request under the United States-Caribbean Basin Trade Partnership Act (CBTPA)

April 30, 2001.

AGENCY: Committee for the Implementation of Textile Agreements (CITA).

ACTION: Denial of the petition alleging that yarns of cashmere and yarns of camel hair cannot be supplied by the domestic industry in commercial quantities in a timely manner.

FOR FURTHER INFORMATION CONTACT: Lori E. Mennitt, International Trade Specialist, Office of Textiles and Apparel, U.S. Department of Commerce, (202) 482-3400.

SUMMARY: On February 28, 2001 the Chairman of CITA received a petition from Amicale Industries, Inc. alleging yarn of cashmere and yarn of camel hair, classified in heading 5108.10.60 of the Harmonized Tariff Schedule of the United States (HTSUS), cannot be supplied by the domestic industry in commercial quantities in a timely manner. It requested that the President proclaim that apparel articles of U.S. formed fabrics of such yarns be eligible for preferential treatment under the CBTPA. As a result, CITA published a Federal Register Notice on March 8, 2001 (66 FR 13913) requesting public comments on the petition. These comments were due March 23, 2001. Based on currently available information, CITA has determined that these products can be supplied by the domestic industry in commercial quantities in a timely manner and therefore denies the petition.

SUPPLEMENTARY INFORMATION:

Authority: Section 213(b)(2)(A)(v)(II) of the Caribbean Basin Economic Recovery Act, as added by Section 211(a) of the CBTPA; Section 6 of Executive Order No. 13191 of January 17, 2001.

BACKGROUND: The CBTPA provides for quota- and duty-free treatment for qualifying textile and apparel products. Such treatment is generally limited to products manufactured from yarns or fabrics formed in the United States or a beneficiary country. The CBTPA also provides for quota-and duty-free treatment for apparel articles that are both cut (or knit-to-shape) and sewn or otherwise assembled in one or more CBTPA beneficiary countries from fabric or yarn that is not formed in the United States or a CBTPA beneficiary country, if it has been determined that such fabric or yarn cannot be supplied by the domestic industry in commercial quantities in a timely manner and the President has proclaimed such treatment. In Executive Order No. 13191, the President delegated to CITA the authority to determine whether yarns or fabrics cannot be supplied by the domestic industry in commercial quantities in a timely manner under the CBTPA and directed CITA to establish procedures to ensure appropriate public participation in any such determination. On March 6, 2001, CITA published procedures that it will follow in considering requests. (66 FR 13502).

On February 28, 2001 the Chairman of CITA received a petition from Amicale Industries, Inc. alleging yarn of cashmere and yarn of camel hair, classified in heading 5108.10.60 of the HTSUS, cannot be supplied by the domestic industry in commercial quantities in a timely manner. It requested that the President proclaim that apparel articles of U.S. formed fabrics of such yarns be eligible for preferential treatment under the CBTPA.

CITA solicited public comments regarding this request (66 FR 13913, published on March 8, 2001) particularly with respect to whether yarn of cashmere and yarn of camel hair, classified in HTSUS heading 5108.10.60, can be supplied by the domestic industry in commercial quantities in a timely manner.

On the basis of currently available information, CITA has determined that yarn of cashmere and yarn of camel hair is spun in the United States and is available from U.S. producers in commercial quantities in a timely manner. Two companies in their submissions claim that they currently spin the yarns in question. Two other companies in their submissions claim to have the spinning capacity to produce these yarns. One company in its submission claims it supplies camel and cashmere hair fibers to companies that spin it into yarn and claims that three additional companies are capable of supplying cashmere and camel hair yarn to the petitioner.

Based on currently available information, CITA has determined that Amicale's petition should be denied. Amicale has not established that these yarns cannot be supplied by the domestic industry in commercial quantities in a timely manner. Currently available information indicates that the domestic industry is able to supply these yarns in commercial quantities in a timely manner.

D. Michael Hutchinson,
Acting Chairman, Committee for the Implementation of Textile Agreements.

[FR Doc.01-11211 Filed 5-1-01; 12:40 pm]

BILLING CODE 3510-DR-F